DEPARTMENT OF AGRICULTURE

Forest Service

Uinta-Wasatch-Cache National Forest Resource Advisory Committee

AGENCY: Forest Service, USDA.

ACTION: Notice of meeting.

SUMMARY: The Uinta-Wasatch-Cache National Forest Resource Advisory Committee will meet via teleconference. The committee is authorized under the Secure Rural Schools and Community Self-Determination Act (Pub. L. 112-141) (the Act) and operates in compliance with the Federal Advisory Committee Act. The purpose of the committee is to improve collaborative relationships and to provide advice and recommendations to the Forest Service concerning projects and funding consistent with the Title II of the Act. The meeting is open to the public. The purpose of the meeting is to review and recommend projects authorized under Title II of the Act.

DATES: The meeting will be held via teleconference at 3:00 p.m.-5:00 p.m. (MST) on September 26, 2012. The call-in number is: 1-888-858-2144, passcode: 4620337#. The public may access the call via the call-in number, or attending the call at the Uinta-Wasatch-Cache National Forest Supervisor's office, 857 West South Jordan Parkway (106th South), South Jordan, Utah Written comments may be submitted as described under Supplementary Information. All comments, including names and addresses when provided, are placed in the record and are available for public inspection and copying. The public may inspect comments received at the Uinta-Wasatch-Cache National Forest Supervisor's office, located at the address above. Please call ahead to 801-999-2103 to facilitate entry into the building to view comments.

FOR FURTHER INFORMATION CONTACT: Loyal Clark, Public Affairs Officer, Uinta-Wasatch-Cache National Forest, 801-999-2113, lfclark@fs.fed.us.

SUPPLEMENTARY INFORMATION: The following business will be conducted: review and recommend project proposals for one additional year of funding. Agenda and project proposals can be obtained at www.fs.usda.gov/uwcnf. Anyone who would like to bring related matters to the attention of the committee may file written statements with the committee staff before or after the meeting. The agenda will include time for people to make oral statements of three minutes or less. Individuals wishing to make an oral statement should request in writing by September 21, 2012. Written comments and requests for time for oral comments must be sent to Uinta-Wasatch-Cache National Forest, Attn: Ms. Loyal Clark, 857 West South Jordan Parkway, South Jordan, Utah 84095, or by email to lfclark@fs.fed.us, or via facsimile to 801-999-2185. A summary of the meeting will be posted at www.fs.usda.gov/uwcnf within 21 days of the meeting.

Meeting Accommodations: If you are a person requiring reasonable accommodations, please make requests in advance for sign language interpreting, assistive listening devices or other reasonable accommodation for access to the facility or proceedings by contacting the person listed under FOR FURTHER INFORMATION CONTACT. All reasonable accommodation requests are managed on a case-by-case basis.

Dated: August 21, 2012.
Cheryl Probert,
Deputy Forest Supervisor.

[FR Doc. 2012-21192 Filed 8-30-12; 8:45 am]

BILLING CODE 3410-11-P